DEPARTMENT OF HEALTH AND HUMAN SERVICES

National Institutes of Health

National Cancer Institute; Cancellation of Meeting

Notice is hereby given of the cancellation of the National Cancer Institute Special Emphasis Panel, August 26, 2014, 8:00 a.m. to August 26, 2014, 3:00 p.m., NCI Shady Grove 3W032/034, Rockville, MD, 20850 which was published in the Federal Register on July 17, 2014, 79 FR 41701.

This meeting was canceled due to unforeseen circumstances. A new date will be set in the near future.

Dated: August 12, 2014.
Melanie J. Gray,
Program Analyst, Office of Federal Advisory Committee Policy.

[FR Doc. 2014-19497 Filed 8-15-14; 8:45 am]

BILLING CODE 4140-01-P